DEPARTMENT OF THE INTERIOR

Bureau of Land Management

[L14400000.PN0000/LXSITCOR0000/LLWO350000/20X; OMB Control Number 1004-0206]

Agency Information Collection Activities; Submission to the Office of Management and Budget for Review and Approval; Competitive Processes, Terms, and Conditions for Leasing Public Lands for Solar and Wind Energy Development

AGENCY: Bureau of Land Management, Interior.

ACTION: Notice of information collection; request for comment.

SUMMARY: In accordance with the Paperwork Reduction Act of 1995, we, the Bureau of Land Management (BLM), are proposing to renew an information collection.

DATES: Interested persons are invited to submit comments on or before February 27, 2020.

ADDRESSES: Send written comments on this information collection request (ICR) to the Office of Management and Budget's Desk Officer for the Department of the Interior by email at OIRA_Submission@omb.eop.gov; or via facsimile to (202) 395-5806. Please provide a copy of your comments to the BLM at U.S. Department of the Interior, Bureau of Land Management, 1849 C Street NW, Room 2134LM, Washington, DC 20240, Attention: Faith Bremner; or by email to fbremner@blm.gov. Please reference OMB Control Number 1004-0206 in the subject line of your comments.

FOR FURTHER INFORMATION CONTACT: To request additional information about this ICR, contact Jeremy Bluma by email at jbluma@blm.gov, or by telephone at 208-373-3847. You may view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format. A Federal Register notice with a 60-day public comment period soliciting comments on this collection of information was published on October 18, 2019 (84 FR 55984). The BLM received one comment from a member of the general public, however, it is not relevant to this action.

The BLM is soliciting comments on the proposed ICR that is described below and is interested in public comment addressing the following issues: (1) Is the collection necessary to the proper functions of the BLM; (2) Will this information be processed and used in a timely manner; (3) Is the estimate of burden accurate; (4) How might the BLM enhance the quality, utility, and clarity of the information to be collected; and (5) How might the BLM minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: This control number enables the BLM to collect the necessary information to authorize the use of public lands for solar and wind energy, pipelines, and electric transmission lines with a capacity of 100 Kilovolts (kV) or more.

Title of Collection: Competitive Processes, Terms, and Conditions for Leasing Public Lands for Solar and Wind Energy Development.

OMB Control Number: 1004-0206.

Form: SF-299.

Type of Review: Extension of a currently approved collection.

Description of Respondents: Businesses that seek authorization to use public lands for solar or wind energy development, pipelines, or electric transmission lines with a capacity of 100 Kilovolts (kV) or more.

Total Estimated Number of Annual Responses: 3,042.

Estimated Completion Time per Response: Varies from 2 to 16 hours, depending on the activity.

Total Estimated Number of Annual Burden Hours: 47,112.

Respondent's Obligation: Required to obtain or retain a benefit.

Frequency of Collection: On occasion.

Total Estimated Annual Nonhour Burden Cost: $2,180,808.

An agency may not conduct, or sponsor and a person is not required to respond to a collection of information unless it displays a currently valid OMB control number. The authority for this action is the Paperwork Reduction Act of 1995 (44 U.S.C. 3501 et seq).

Faith Bremner,
Senior Regulatory Analyst, Bureau of Land Management.

[FR Doc. 2020-01438 Filed 1-27-20; 8:45 am]

BILLING CODE 4310-84-P